DEPARTMENT OF COMMERCE

National Oceanic and Atmospheric Administration

RIN 0648-XC249

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a joint meeting of its Deepwater Shrimp Advisory Panel (AP) and Coral Advisory Panel in Cape Canaveral, FL.

DATES: Members of the Deepwater Shrimp AP and Coral AP will meet jointly from 8:30 a.m. until 5 p.m. on October 18, 2012.

ADDRESSES: The meeting will be held at the Radisson Resort at the Port, 8701 Astronaut Blvd., Cape Canaveral, FL; telephone: (800) 967-9033; fax: (321) 784-3737.

FOR FURTHER INFORMATION CONTACT: Kim Iverson, Public Information Officer, South Atlantic Fishery Management Council, 4055 Faber Place Drive, Suite 201, N. Charleston, SC 29405; telephone: (843) 571-4366 or toll free: (866) SAFMC-10; fax: (843) 769-4520; email: kim.iverson@safmc.net.

SUPPLEMENTARY INFORMATION: Issues to be addressed at the meeting include: An overview of the rock shrimp fishery and of deepwater coral resources; options for expanding Coral Habitat Areas of Particular Concern (HAPCs); and transit provisions through the Oculina Bank HAPC. The joint APs will provide recommendation to the Council.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for auxiliary aids should be directed to the Council office (see ADDRESSES) 3 days prior to the meeting.

Note: The times and sequence specified in this agenda are subject to change.

Dated: September 20, 2012.
Tracey L. Thompson,
Acting Deputy Director, Office of Sustainable Fisheries, National Marine Fisheries Service.

[FR Doc. 2012-23550 Filed 9-24-12; 8:45 am]

BILLING CODE 3510-22-P